OFFICE OF MANAGEMENT AND BUDGET

U.S.-EU High Level Regulatory Cooperation Forum—Stakeholder Session

AGENCY: Office of Management and Budget.

ACTION: Notice of Public Meeting.

SUMMARY: On September 28, 2012, the Office of the United States Trade Representative (USTR) and the Office of Management and Budget (OMB), together with the European Commission's Enterprise and Trade Directorates-General, published a joint request for comments on “Promoting US EC Regulatory Compatibility” (see http://www.regulations.gov/#!documentDetail;D=USTR-2012-0028-0001). The notice was part of a joint effort by the United States and the European Union (EU) to obtain input from the public on how to promote greater transatlantic regulatory compatibility generally as well as in specific economic sectors. See also http://www.whitehouse.gov/blog/2012/09/07/eliminating-red-tape-boost-trade-economic-growth. On April 10th and 11th, OMB and the European Commission will hold a public meeting of the U.S.-EU High Level Regulatory Cooperation Forum (the “Forum”) in Washington, DC, to provide interested persons with an opportunity to provide an oral statement.

DATES: Public meeting: April 10, 2013, starting at 9:00 a.m. and ending at 5:30 p.m., and April 11, 2013, starting at 9:00 a.m. and ending by 12:00 p.m.

ADDRESSES: Public Meeting: As with previous Forum meetings, the public sessions will be hosted by the U.S. Chamber of Commerce at 1615 H Street NW., Washington, DC 20062. Any person wishing to attend should RSVP at www.uschamber.com/grc/us-eu-high-level-regulatory-cooperation-forum.

Oral Presentations: Any persons wishing to present an oral statement at the public meeting should notify OMB in writing via International-OIRA@omb.eop.gov no later than March 20, 2013, and provide, in advance or at the meeting, written copies of their presentations. When considering requests to present an oral statement, given the limited amount of time available for the meeting, and to take advantage of the work already done by members of the public, preference will be given to those who submitted comments in response to the September 28th notice. Those persons who have been selected to present at the public meeting will be informed no later than April 5, 2013.

Instructions: OMB invites those persons who are selected to present oral statements at the public meeting to email or fax such statements, as well as any supporting information, to:

• Email: International-OIRA@omb.eop.gov

• Fax: 1-202-395-2410.

Please note that this Forum meeting is an initial step in a much longer process of public engagement to identify possible areas of transatlantic regulatory cooperation in the future. Time constraints may prevent some stakeholders from making presentations on April 10th or 11th, 2013. However, there will be future opportunities to submit suggestions and ideas, and the stakeholder session agenda will in no way prejudge the specific elements of a future transatlantic regulatory cooperation agenda.

Docket: For access to the docket and to read background documents or comments received by the U.S., go to http://www.regulations.gov and search for docket USTR-2012-0028.

Privacy Act: Anyone is able to search the electronic form of any written communications and comments received into any of our dockets by the name of the individual submitting the document (or signing the document, if submitted on behalf of an association, business, labor union, etc.).

FOR FURTHER INFORMATION CONTACT: Wendy Liberante, Office of Information and Regulatory Affairs, telephone (202) 395-3785, Office of Management and Budget, Washington, DC 20503.

Background: Transatlantic trade and investment among and between the United States and the EU represent the largest economic relationship in the world, accounting for half of global economic output and nearly one trillion dollars in goods and services trade, as well as supporting millions of jobs on both sides of the Atlantic. The United States and the EU are committed to identifying new ways to strengthen this vibrant economic partnership by reducing unnecessary regulatory differences and cutting red tape, while respecting each other's right to protect our environment and safeguard the health, safety, and welfare of our citizens. By promoting these goals, we will help businesses to grow, create jobs, and succeed in an increasingly competitive global market. Enhanced cooperation will also help the United States and the EU to achieve their respective domestic regulatory objectives in a more effective and efficient manner.

In recent years, the Forum, and the Transatlantic Economic Council (TEC) have sought to increase cooperation on future regulations affecting new and innovative growth markets and technologies. We seek to continue to make progress through the Forum and the TEC with the help of additional input from the public.

Purpose of Public Meeting: The April 10-12, 2013 meeting of the Forum is intended to provide an additional opportunity for interested parties to help the United States and EU define our priorities and explore next steps. The public input will help us to identify both immediate and longer-term goals, as well as potential mechanisms to accomplish them.

Boris Bershteyn,
Acting Administrator, Office of Information and Regulatory Affairs.

[FR Doc. 2013-05252 Filed 3-6-13; 8:45 am]

BILLING CODE P